DEPARTMENT OF DEFENSE

Department of the Army

Notice of Intent To Grant an Exclusive License of a U.S. Government-Owned Patent

AGENCY: U.S. Army Medical Research and Materiel Command, DoD.

ACTION: Notice.

SUMMARY: In accordance with 35 U.S.C. 209(e) and 37 CFR 404.7 (a)(I)(i), announcement is made of the intent to grant an exclusive, royalty-bearing, revocable license to U.S. patent number 5,607,979 issued March 4, 1997 entitled “Topical Skin Protectants” to DFB Pharmaceuticals, Inc. with its principal place of business at 3909 Hulen Street, Fort Worth, Texas 76107. The exclusive field of use will be the prevention or treatment of contact and allergic dermatitis, as well as dermatitis or wounds caused by incontinence.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: Anyone wishing to object to the grant of this license can file written objections along with supporting evidence, if any, on or before November 2, 2001. Written objections are to be filed with the Command Judge Advocate, U.S. Army Medical Research and Materiel Command, 504 Scott Street, Fort Detrick, Frederick, Maryland 21702-5012.

Luz D. Ortiz,
Army Federal Register Liaison Officer.

[FR Doc. 01-26191 Filed 10-17-01; 8:45 am]

BILLING CODE 3710-08-M